DEPARTMENT OF HEALTH AND HUMAN SERVICES

Administration for Children and Families

Submission for OMB Review; Comment Request

Title: Health Profession Opportunity Grant (HPOG) program: Third Follow-Up Data Collection.

OMB No.: 0970-0394.

Description: The Administration for Children and Families (ACF), U.S. Department of Health and Human Services (HHS) is proposing data collection activities as part of the Health Profession Opportunity Grant (HPOG) program. The proposed data collection activities are for the Impact Study of the first round of HPOG grants (HPOG-Impact). The goal of HPOG-Impact is to evaluate the effectiveness of approaches used by 20 of the 27 non-tribal HPOG grantees to provide TANF recipients and other low-income individuals with opportunities for education, training, and advancement within the healthcare field. It is also intended to evaluate variation in participant impact that may be attributable to different HPOG program components and models.

HPOG-Impact is one project within the broader portfolio of research that the ACF Office of Planning, Research and Evaluation (OPRE) is utilizing to assess the success of career pathways programs and models. This strategy includes a multi-pronged research and evaluation approach for the HPOG program to better understand and assess the activities and their results as well as the Pathways for Advancing Careers and Education (PACE) project. In order to maximize learning across the portfolio, survey development for the HPOG and PACE baseline and follow-up surveys has been coordinated, and the majority of the data elements collected in these surveys are similar. (See OMB Control #0970-0397 for PACE data collection.)

Four data collection efforts have been approved for HPOG research: One for approval of a Performance Reporting System (PRS) (approved September 2011); a second for collection of baseline data (approved October 2012); a third for a follow-up survey of participants administered approximately 15 months after random assignment and for implementation study data collection (approved August 2013); and a fourth for a second follow-up survey of participants administered 36 months after random assignment (approved December 2014).

This Federal Register Notice provides the opportunity to comment on a proposed new information collection activity for HPOG-Impact—a third follow-up survey for HPOG-Impact participants approximately 72 months after program enrollment. The purpose of the survey is to follow up with study participants to document their education and training experiences; employment experiences including their advancement in their career; economic well-being; student debt and repayment status; and parenting practices and child outcomes for participants with children. Previously approved collection activities under 0970-0394 will continue under this new request, specifically the 36-Month Follow-Up Survey and the Follow-Up Survey Contact Information Update Letters.

Respondents: Random sample of individuals enrolled in the HPOG-Impact Study.

Annual Burden Estimates—New Information Collection [This information request is for a three-year period.]

Note: The burden estimate increased from the 60-day notice due to an expected increase in sample size.

Instrument | Total number of respondents | Annual number of respondents | Number of responses per respondent | Average burden hours per response | Annual burden hours
72-Month Follow-Up Survey | 2,960 | 987 | 1 | 0.75 | 740

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2017-12488 Filed 6-15-17; 8:45 am]

BILLING CODE 4184-72-P